DEPARTMENT OF THE INTERIOR

National Park Service

Notice of Inventory Completion: New York University College of Dentistry, New York City, NY

AGENCY: National Park Service, Interior.

ACTION: Notice.

Notice is here given in accordance with the Native American Graves Protection and Repatriation Act (NAGPRA), 25 U.S.C. 3003, of the completion of an inventory of human remains in the control of the New York University College of Dentistry, New York City, NY. The human remains were removed from Mackinaw City, Cheboygan County, MI.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the New York University College of Dentistry professional staff in consultation with representatives of the Grand Traverse Band of Ottawa and Chippewa Indians, Michigan and Little Traverse Bay Bands of Odawa Indians, Michigan.

At an unknown date, human remains representing a minimum of one individual were removed from Mackinaw City in Cheboygan County, MI. At an unknown date, the human remains came into the possession of Walter C. Wyman of Chicago, IL. In 1915, Mr. Wyman donated the human remains to the Museum of the American Indian, Heye Foundation, New York City, NY. In 1956, the human remains were transferred to Dr. Theodore Kazamiroff, New York University College of Dentistry. No known individual was identified. No associated funerary objects are present.

Based on the cranial morphology of the human remains, the individual is identified as Native American. Information associated with the human remains identify them as “----- [illegible] Saugema, Ottawa Tribe.” The Ottawa are also known by the name Odawa. “Saugema” is an Odawa family name in the Mackinaw area and variants are recorded for the Little Traverse Bay Bands of Odawa. Although a surname is listed for the human remains, lineal descendants could not be identified because the specific identity of the individual could not be determined. The identification of a surname indicates that the human remains date to the Historic period.

The area of Mackinaw City corresponds to the territory of the Odawas after European contact. The Odawa people entered the written record in 1615, when the French encountered them at the eastern shores of Lake Huron on the Georgian Bay. Soon after this, the Odawas left the Lower Peninsula of Michigan because of Iroquoian raids, but returned to Michigan after the Iroquois were repelled from the area by the Odawas and other Great Lakes tribes in the mid-1600s. By 1673, the Odawas had established villages at the Straits of Mackinac. One village was located at Michilimackinac, in present-day Mackinaw City. A letter dating to 1710 describes Odawa mortuary practices at Michilimackinac that are consistent with the physical condition of the human remains. Odawa people have remained in the Mackinaw area since their return in the 17th century. In addition, Odawa oral traditions identify the Mackinac area as an area of aboriginal occupation for many generations prior to European contact, and Mackinaw City is part of the ancestral lands of the Little Traverse Bay Bands of Odawa Indians, Michigan.

Officials of the New York University College of Dentistry have determined that, pursuant to 25 U.S.C. 3001 (9-10), the human remains described above represent the physical remains of one individual of Native American ancestry. Officials of the New York University College of Dentistry also have determined that, pursuant to 25 U.S.C. 3001 (2), there is a relationship of shared group identity that can be reasonably traced between the Native American human remains and the Little Traverse Bay Bands of Odawa Indians, Michigan.

Representatives of any other Indian tribe that believes itself to be culturally affiliated with the human remains should contact Dr. Louis Terracio, New York University College of Dentistry, 345 East 24th St, New York, NY 10010, telephone (212) 998-9917, before June 1, 2009. Repatriation of the human remains to the Little Traverse Bay Bands of Odawa Indians, Michigan may proceed after that date if no additional claimants come forward.

The New York University College of Dentistry is responsible for notifying the Grand Traverse Band of Ottawa and Chippewa Indians, Michigan and Little Traverse Bay Bands of Odawa Indians, Michigan that this notice has been published.

Dated: April 13, 2009.
Sherry Hutt,
Manager, National NAGPRA Program.

[FR Doc. E9-9983 Filed 4-29-09; 8:45 am]

BILLING CODE 4312-50-S